COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes services from the Procurement List previously furnished by such agencies.

DATES: Date added to and deleted from the Procurement List: August 5, 2018.

ADDRESSES: Committee for Purchase From People Who Are Blind or Severely Disabled, 1401 S Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 4/20/2018 (83 FR 77) and 5/18/2018 (83 FR 97), the Committee for Purchase From People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Types: Furniture Design, Configuration and Installation Service Tool and MRO Sourcing and Fulfillment Service

Mandatory for: USPFO Connecticut, National Guard Bureau, National Guard Armory 360 Broad Street, Hartford, CT

Mandatory Source(s) of Supply: Industries for the Blind, Inc., West Allis, WI

Contracting Activity: Dept of the Army, W7MZ USPFO Activity CT ARNG

Service Type: Mailroom Service

Mandatory for: Bureau of Engraving and Printing, Office of Financial Management, 14th & C Streets SW, Washington, DC

Mandatory Source of Supply: Melwood Horticultural Training Center, Inc., Upper Marlboro, MD

Contracting Activity: Bureau of Engraving and Printing, BEP Office Of Acquisition

Deletions

On 5/18/2018 (83 FR 97), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Types: Consolidated Base Operation Support (BOS) Service Janitorial/Custodial Service

Mandatory for: Naval & Marine Corps Reserve Center, 1600 West Lafayette Ave, Moundsville, WV, Marine Corps Reserve Center, 615 Kenhorst Boulevard, Reading, PA

Mandatory Source(s) of Supply: Human Technologies Corporation, Utica, NY Russell Nesbitt Services, Inc., Wheeling, WV Quality Employment Services and Training, Inc., Lebanon, PA

Contracting Activity: Dept of the Navy, Naval FAC Engineering CMD MID LANT

Amy Jensen,
Director, Business Operations.

[FR Doc. 2018-14531 Filed 7-5-18; 8:45 am]

BILLING CODE 6353-01-P